DEPARTMENT OF ENERGY

Federal Energy Regulatory Commission

Combined Notice of Filings #1

Take notice that the Commission received the following electric corporate filings:

Docket Numbers: EC13-50-000.

Applicants: New England Power Company, New England Electric Transmission Corporation.

Description: Application For Authorization to Transfer Certain Transmission Facilities and Request for Expedition and Certain Waivers under Section 203 of New England Power Company and New England Electric Transmission Corporation.

Filed Date: 12/13/12.

Accession Number: 20121213-5143.

Comments Due: 5 p.m. ET 1/3/13.

Docket Numbers: EC13-51-000.

Applicants: ITC Midwest LLC.

Description: Application pursuant to section 203 of the Federal Power Act of ITC Midwest LLC.

Filed Date: 12/14/12.

Accession Number: 20121214-5142.

Comments Due: 5 p.m. ET 1/4/13.

Take notice that the Commission received the following electric rate filings:

Docket Numbers: ER10-2564-002; ER10-2600-002; ER10-2289-002.

Applicants: Tucson Electric Power Company, UNS Electric, Inc., UniSource Energy Development Company.

Description: Triennial Market Power Update and Report of Change in Status of Tucson Electric Power Company, et. al.

Filed Date: 12/14/12.

Accession Number: 20121214-5113.

Comments Due: 5 p.m. ET 2/12/13.

Docket Numbers: ER12-50-002.

Applicants: California Independent System Operator C.

Description: California Independent System Operator Corporation submits tariff filing per 35: 2012-12-14 CAISO Compliance Filing in Docket No. ER12-50-001 to be effective 11/1/2012.

Filed Date: 12/14/12.

Accession Number: 20121214-5171.

Comments Due: 5 p.m. ET 1/4/13.

Docket Numbers: ER13-535-000.

Applicants: PJM Interconnection, L.L.C.

Description: Letter Alerting of Extraneous Text in Prior eTariff Filing Under ER13-535 to be effective N/A.

Filed Date: 12/13/12.

Accession Number: 20121213-5105.

Comments Due: 5 p.m. ET 1/3/13.

Docket Numbers: ER13-551-000.

Applicants: Gray County Wind Energy, LLC.

Description: Gray County Wind and Ensign Wind Shared Facilities Agreement to be effective 12/14/2012.

Filed Date: 12/13/12.

Accession Number: 20121213-5000.

Comments Due: 5 p.m. ET 1/3/13.

Docket Numbers: ER13-552-000.

Applicants: Arizona Public Service Company.

Description: Rate Schedule No. 217, WAPA, Exhibit A to be effective 3/1/2013.

Filed Date: 12/13/12.

Accession Number: 20121213-5091.

Comments Due: 5 p.m. ET 1/3/13.

Docket Numbers: ER13-553-000.

Applicants: Louisville Gas and Electric Company.

Description: OATT Schedule 11 Loss Rev to be effective 3/1/2013.

Filed Date: 12/13/12.

Accession Number: 20121213-5129.

Comments Due: 5 p.m. ET 1/3/13.

Docket Numbers: ER13-555-000.

Applicants: Michigan Electric Transmission Company.

Description: Filing of Notice of Succession and Notice of Termination to be effective 2/12/2013.

Filed Date: 12/14/12.

Accession Number: 20121214-5039.

Comments Due: 5 p.m. ET 1/4/13.

Docket Numbers: ER13-556-000.

Applicants: National Grid Generation LLC.

Description: Annual Pension and Other Post Employment Benefits Costs Filing to be effective 1/1/2012.

Filed Date: 12/14/12.

Accession Number: 20121214-5054.

Comments Due: 5 p.m. ET 1/4/13.

Docket Numbers: ER13-557-000.

Applicants: American Electric Power Service Corporat,PJM Interconnection, L.L.C.

Description: AEPSC submits 36th Revised SA No. 1336 among AEPSC & Buckeye to Cancel FA29 to be effective 11/9/2012.

Filed Date: 12/14/12.

Accession Number: 20121214-5078.

Comments Due: 5 p.m. ET 1/4/13.

Docket Numbers: ER13-558-000.

Applicants: Sycamore Cogeneration Company,Southern California Edison Company.

Description: Joint Application of Sycamore Cogeneration Company and Southern California Edison Company to make wholesale power and capacity sales to affiliate.

Filed Date: 12/14/12.

Accession Number: 20121214-5091.

Comments Due: 5 p.m. ET 1/4/13.

Docket Numbers: ER13-559-000.

Applicants: Southern California Edison Company,Kern River Cogeneration Company.

Description: Joint Application of Kern River Cogeneration Company and Southern California Edison Company to make wholesale power and capacity sales to affiliate.

Filed Date: 12/14/12.

Accession Number: 20121214-5093.

Comments Due: 5 p.m. ET 1/4/13.

Docket Numbers: ER13-560-000.

Applicants: American Electric Power Service Corporat,PJM Interconnection, L.L.C.

Description: AEPSC submits 37th Revised Service Agreement No. 1336 among AEPSC & Buckeye to be effective 11/15/2012.

Filed Date: 12/14/12.

Accession Number: 20121214-5096.

Comments Due: 5 p.m. ET 1/4/13.

Docket Numbers: ER13-561-000.

Applicants: EME Homer City Generation L.P.

Description: EME Homer City Generation L.P. submits Notice of Cancellation.

Filed Date: 12/14/12.

Accession Number: 20121214-5141.

Comments Due: 5 p.m. ET 1/4/13.

Take notice that the Commission received the following electric securities filings:

Docket Numbers: ES13-9-000.

Applicants: Montana Alberta Tie Ltd, MATL LLP.

Description: Montana Alberta Tie Ltd, et. al. submits Second Supplement to Application.

Filed Date: 12/14/12.

Accession Number: 20121214-5089.

Comments Due: 5 p.m. ET 12/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2012.
Nathaniel J. Davis, Sr.,
Deputy Secretary.

[FR Doc. 2012-30918 Filed 12-21-12; 8:45 am]

BILLING CODE 6717-01-P